DEPARTMENT OF COMMERCE

National Oceanic and Atmospheric Administration

[Docket Number: 020729185-2185-01]

Announcement of Graduate Research Fellowships in the National Estuarine Research Reserve System for Fiscal Year 2003

AGENCY: Estuarine Reserves Division (ERD), Office of Ocean and Coastal Resource Management (OCRM), National Ocean Service (NOS), National Oceanic and Atmospheric Administration (NOAA), Department of Commerce (DOC).

ACTION: Notice.

SUMMARY: The Estuarine Reserves Division of OCRM is soliciting applications for graduate fellowship funding within the National Estuarine Research Reserve System. This notice sets forth funding priorities, selection criteria, and application procedures.

The National Estuarine Research Reserve System of NOAA announces the availability of graduate research fellowships. The Estuarine Reserves Division anticipates that 27 Graduate Research Fellowships will be competitively awarded to qualified graduate students whose research occurs within the boundaries of at least one reserve. Minority students are encouraged to apply. The amount of the fellowship is $17,500; at least 30% of total project cost match is required by the applicant. Applicants may apply for between one and three years of funding. Fellowships will start June 1, 2003. A later start date may be requested with justification and will be reviewed by ERD for approval.

DATES: Applications must be postmarked no later than November 1, 2002. Notification regarding the awarding of fellowships will be issued on or about March 1, 2003.

ADDRESSES: Erica Seiden, program coordinator, NOAA/Estuarine Reserves Division, 1305 East-West Highway, N/ORM5, SSMC4, 11616 Floor, Silver Spring, MD 20910, Attn: NERRS GRF. Phone: 301-713-3155 ext. 172 Fax: 301-713-4363, internet: erica.seiden@noaa.gov. Web page: http://www.ocrm.nos.noaa.gov/nerr/fellow.html. See Appendix I for National Estuarine Research Reserve addresses.

FOR FURTHER INFORMATION CONTACT: For further information on specific research opportunities at National Estuarine Research Reserves, contact the site staff listed in Appendix I or the program specialist listed in the Addresses section above. For application information, contact Erica Seiden of ERD (see contact information above).

SUPPLEMENTARY INFORMATION:

I. Authority and Background

Section 315 of the Coastal Zone Management Act of 1972, as amended (CZMA), 16 U.S.C. 1461, establishes the National Estuarine Research Reserve System (NERRS). 16 U.S.C. 1461 (e)(1)(B) authorizes the Secretary of Commerce to make grants to any coastal state or public or private person for purposes of supporting research and monitoring within a National Estuarine Research Reserve that are consistent with the research guidelines developed under subsection (c). This program is listed in the Catalog of Federal Domestic Assistance (CFDA) under “Coastal Zone Management Estuarine Research Reserves,” Number 11.420.

II. Information on the National Estuarine Research Reserve System

The National Estuarine Research Reserve System consists of estuarine areas of the United States and its territories which are designated and managed for research and educational purposes. Each reserve within the system is chosen to reflect regional differences and to include a variety of ecosystem types in accordance with the classification scheme of the national program as presented in 15 CFR part 921.

Each reserve supports a wide range of beneficial uses of ecological, economic, recreational, and aesthetic values which are dependent upon the maintenance of a healthy ecosystem. The sites provide habitats for a wide range of ecologically and commercially important species of fish, shellfish, birds, and other aquatic and terrestrial wildlife. Each reserve has been designed to ensure its effectiveness as a conservation unit and as a site for long-term research and monitoring. As part of a national system, the reserves collectively provide an excellent opportunity to address research questions and estuarine management issues of national significance. For detailed descriptions of the sites, refer to the NERR Web site at http://www.ocrm.nos.noaa.gov/nerr/fellow.html or contact the site staff.

III. Eligibility and Availability of Funds

Funds are expected to be available on a competitive basis to qualified graduate students for research within a reserve(s) leading to a graduate degree. Applicants must be admitted to or enrolled in a full-time Master's or Doctoral program at a U.S. accredited university in order to be eligible to apply. Institutions eligible to receive awards include institutions of higher education, other non-profits, commercial organizations, international organizations, state, local and Indian tribal governments. Applicants should have completed a majority of their graduate course work at the beginning of their fellowship and have an approved thesis research program. Minority students are encouraged to apply.

Applicants may request funding for up to three years; funding for years two and three will be made available based on availability of funds and satisfactory progress of research as determined by the host reserve and the applicant's faculty advisor, in consultation with NOAA's Estuarine Reserves Division.

All reserve staff are ineligible to submit an application for a fellowship under this announcement. Requested federal funds must be matched by at least 30 percent of the TOTAL cost, not the federal share, of the project (i.e. $7,500 match for $17,500 in federal funds for a total project cost of $25,000). Requested overhead costs under fellowship awards are limited to 10% of the federal amount. Waived overhead costs may be used as match. Students receiving fellowship funding under this announcement will begin June 1, 2003.

No more than two fellowships at any one site will be funded at any one time. Based upon fellowships awarded in the 2002 funding cycle, we anticipate 27 openings for fellowships in 2003. Fellowships are expected to be available at the following sites:

NERR Site | Openings
Apalachicola, FL | 1
Chesapeake Bay, MD | 2
Chesapeake Bay, VA | 2
Delaware | 2
Elkhorn Slough, CA | 1
Grand Bay, MS | 2
Great Bay, NH | 1
Jacques Cousteau, NJ | 2
Jobos Bay, PR | 1
Kachemak Bay, AK | 2
Narragansett Bay, RI | 1
North Carolina | 1
North Inlet-Winyah Bay, SC | 2
Padilla Bay, WA | 1
Rookery Bay, FL | 1
Sapelo Island, GA | 1
Waquoit Bay, MA | 2
Weeks Bay, AL | 1
Wells, ME | 1

IV. Purpose and Priorities

NERR research funds are provided to support management-related research projects that will enhance scientific understanding of the reserve ecosystem, provide information needed by reserve management and coastal management decision-makers, and improve public awareness and understanding of estuarine ecosystems and estuarine management issues (15 CFR 921.50).

The NERR Graduate Research Fellowship program is designed to fund high quality research focused on enhancing coastal zone management while providing students with an opportunity to contribute to the research and/or monitoring program at a particular reserve.

Research projects proposed in response to this announcement must: (1) Address coastal management issues identified as having local, regional, and/or national significance, described in the “Scientific Areas of Support” below; and (2) be conducted within one or more designated reserve site(s).

Funding, $17,500 per year, is intended to provide any combination of research support, salary, tuition, supplies, or other costs as needed, including overhead. All current and prospective fellows will be eligible to receive $17,500 in federal funds. Fellows will be expected to participate in the reserve's research and/or monitoring program for up to a maximum of 15 hours per week. The work plan should be devised cooperatively with the reserve's research coordinator. Fellows conducting multi-site projects may fulfill this requirement at one or a combination of sites but for no more than a total of 15 hours per week. This program may occur throughout the academic year or may be concentrated during a specific season.

Scientific Areas of Support

The National Estuarine Research Reserve System has identified the following as areas of nationally significant research interest. Proposed research projects submitted in response to this announcement must address one of the following estuarine ecosystem topics (see #1 above):

• Eutrophication, effects of non-point source pollution and/or nutrient dynamics;

• Habitat conservation and/or restoration;

• Biodiversity and/or the effects of invasive species;

• Mechanisms for sustaining resources within estuarine ecosystems; or

• Economic, sociological, and/or anthropological research applicable to estuarine ecosystem management.

Note: Each reserve has local issues of concern that fall within one of the topics above. It is strongly suggested that applicants contact the host reserve (see Appendix I) for general information about the reserve and its research needs and priorities as they relate to this announcement. Applicants should determine whether their proposed projects are relevant to the reserve's site specific research needs.

V. Guidelines for Application Preparation, Review, and Reporting Requirements

Fellowship applicants must follow the guidelines presented in this announcement. Applications not adhering to these guidelines may be returned to the applicant without further review. Minority students are encouraged to apply.

Applicants must submit an original and two (2) copies of all application materials, except letters of reference which must come directly from their source. All materials must be postmarked no later than November 1, 2002. Applications postmarked November 2, 2002 or later will be returned without review. Receipt of all applications will be acknowledged and a copy sent to the appropriate reserve staff for review.

Applicants who are selected for funding will be required to: (1) Work with the research coordinator or manager at the host reserve to develop a plan to participate in the reserve's research and/or monitoring program for up to 15 hours per week; (2) submit semi-annual progress reports to ERD and the host reserve before the end of each funding cycle on the research accomplishments to date; and (3) acknowledge NERRS support in all relevant scientific presentations and publications. In addition, fellows are strongly encouraged to publish their results in peer-reviewed literature and make presentations at local, national and international scientific meetings.

A. Application Preparation

Applicants are required to submit:

1. Academic resume or a curriculum vitae that includes all graduate and undergraduate institutions (department or area of study, degree, and year of graduation), all publications (including undergraduate and graduate thesis), awards or fellowships, and work/research experience.

2. Cover letter indicating current academic status, research interests, career goals, and how the proposed research fits into their degree program. It is strongly suggested that the results of discussions with the host reserve regarding their contributions to the reserve's research and/or monitoring program be included in the letter.

3. Unofficial copy of all undergraduate and graduate transcripts.

4. Signed letter of support from the applicant's graduate advisor indicating the advisor's contribution (financial and otherwise) to the applicant's graduate studies, and an assurance that the student is in good academic standing.

5. Two signed letters of recommendation from other than the applicant's graduate advisor sent directly from their source. Electronically transmitted letters of support are not acceptable.

6. Research proposal must be double-spaced in a font no smaller than 12-point courier and must include the following:

a. Title page which must include:

• Name, address, telephone and fax number, e-mail address, date, and signature of applicant;

• Project title;

• Amount of funding requested;

• Name of graduate institution;

• Name of institution providing matching funds and amount of matching funds;

• Name, address, telephone number and fax number, e-mail address, date, and signature of graduate advisor;

• Reserve(s) where research is to be conducted;

• Number of years of requested support.

b. Abstract. The abstract must state the research objectives, scientific methods to be used, and the significance of the project to a particular reserve and the reserve program. The abstract must be limited to one double-spaced page.

c. Project Description. The project description must be limited to 6 double-spaced pages excluding figures. The main body of the proposal must include a detailed statement of the work to be undertaken and the following components:

(1) Introduction. This section should introduce the research setting and environment. It should include a brief review of pertinent literature and describe the research problem in relation to relevant coastal management issues and the reserve research priorities. This section should identify the primary hypotheses, as well as any additional or component hypotheses which will be addressed by the research project.

(2) Methods. This section should state the method(s) to be used to accomplish the specific research objectives, including a systematic discussion of what, when, where, and how the data are to be collected, analyzed, and reported. Field and laboratory methods should be scientifically valid and reliable and should be accompanied by a statistically sound sampling scheme. Methods chosen should be justified and compared with other methods employed for similar work.

Techniques should allow the testing of the hypotheses, but should also provide baseline data related to ecological and management questions concerning the reserve environment. Methods should be described concisely and techniques should be reliable enough to allow comparison with those made at different sites and times by different investigators.

Analytical methods and statistical tests applied to the data should be documented, thus providing a rationale for choosing one set of methods over alternatives. Quality control measures also should be documented (e.g., statistical confidence levels, standards of reference, performance requirements, internal evaluation criteria). The proposal should indicate by way of discussion how data are to be synthesized, interpreted and integrated into final work products.

Social science applicants should describe the sampling and or data collection methods including surveys, evaluation research, interviews (focus group and/or personal), participant observation, questionnaires, etc. Applicants should also describe the research design (experimental and quasi-experimental) and methods for data analysis.

A map clearly showing the study location and any other features of interest must be included; a U.S. Geological Survey topographic map, or an equivalent, is suggested for this purpose. Consultation with reserve personnel to identify existing maps is strongly recommended.

(3) Project Significance. This section should provide a clear discussion of how the proposed research addresses state and national estuarine and coastal resource management issues and how the proposed research effort will enhance or contribute to improving the state of knowledge of estuaries. This section must also discuss the relation of the proposed research to the research priorities stated in Section IV. Applicability of research findings to other reserve and coastal areas should also be mentioned. In addition, if the proposed research is part of a larger research project, the relationship between the two should be described.

d. Milestone schedule. This schedule should show, in table form, anticipated dates for completing field work, data collection, data analysis, reporting and other related activities. Use “Month 1, Month 2, etc.” rather than “June, July, etc.,” in preparing these charts.

e. Personnel and Project Management. The proposal must include a description of how the project will be managed, including the names and expertise of faculty advisors and other team members. Evidence of ability to successfully complete the proposed research should be supported by reference to similar efforts previously performed.

f. Literature Cited. This section should provide complete references for literature, research, and other appropriate published and unpublished documents cited in the text of the proposal.

7. Proposed budget. The amount of federal funds requested must be matched by the applicant by at least 30% of the total project cost (i.e., $7,500 match for $17,500 in federal funds for a total project cost of $25,000). Cash or in-kind contributions directly benefitting the research project may be used to satisfy the matching requirements. Overhead or indirect costs for these awards are limited to 10% of the federal share. Waived overhead costs may also be used as match. Funds from other federal agencies and reserve staff salaries supported by federal funds may not be used as match. Requirements for the non-federal share are contained in 15 CFR Part 14, Uniform administrative requirements for grants and agreements with institutions of higher education, hospitals, other nonprofit and commercial organizations. ERD strongly suggests that the applicant work with their institution's sponsored programs office to develop their budget.

The applicant may request funds under any of the following categories as long as the costs are reasonable and necessary to perform research: personnel, fringe benefits, travel, equipment, supplies, contractual, construction, other, and indirect. The budget should contain itemized costs with appropriate narratives justifying proposed expenditures. Applicants must supply a table showing budget categories listing the federal and match portion side by side for each year of requested funding. Please see below for further details.

—Personnel. Salaries requested must be consistent with the institution's regular practices. The submitting organization may request that salary data remain confidential.

—Fringe Benefits. Fringe benefits (i.e., social security, insurance, retirement) may be treated as direct costs as long as this is consistent with the institution's regular practices.

—Travel. The type, extent, and estimated cost of travel should be explained and justified in relation to the proposed research; the justification should also identify the person traveling. Travel expenses are limited to round trip travel to field research locations and professional meetings to present the research results and should not exceed 40 percent of total award.

—Equipment. Fellowship funds may be approved for the purchase of equipment only if the following conditions are met: (a) A lease versus purchase analysis has been conducted by the applicant or the applicant's institution for equipment that costs greater than $5000 and the analyses indicate that purchase is the most economical method of procurement; (b) the equipment does not exist at the recipient's institution or the reserve site; and, the equipment is essential for the successful completion of the project.

The justification must address each of these criteria. It must also describe the purpose of the equipment and provide a justification for its use. Additionally, it must include a list of equipment to be purchased, leased, or rented by model number and manufacturer, where known. At the termination of the fellowship, disposition of equipment will be determined by the NOAA Property Administrator.

—Supplies. The budget should indicate in general terms the types of expendable materials and supplies required and their estimated costs.

8. Requests for reserve support services. On-site reserve personnel sometimes can provide limited logistical support for research projects in the form of manpower, equipment, supplies, etc. Any request for reserve support services, including any services provided as match, should be approved by the reserve manager or research coordinator prior to application submission and be included as part of the application package in the form of written correspondence. Reserve resources which are supported by federal funds are not eligible to be used as match.

9. Coordination with other research in progress or proposed. ERD encourages collaboration and cost-sharing with other investigators to enhance scientific capabilities and avoid unnecessary duplication of effort. Applications should include a description of how the research will be coordinated with other research projects that are in progress or proposed, if applicable.

10. Permits. The applicant must apply for any applicable local, state or federal permits. A copy of any permit applications and supporting documentation should be attached to the application as appendices. ERD must receive notification of the approval of the permit application before funding can be approved.

B. Application Review and Evaluation

All applications will be evaluated for scientific merit by no less than three reviewers from the scientific community. The research coordinator and/or reserve manager will oversee the review process at the reserve. Criteria for evaluation are: (1) The quality of proposed research and its applicability to the NERRS Scientific Areas of Support listed in Section IV of this announcement (70%); (2) the research's applicability to specific reserve research and resource management goals as they relate to the Scientific Areas of Support in Section IV of this announcement (20%); and (3) academic excellence based on the applicant's transcripts and two letters of reference (10%). No more than two fellowships will be awarded at any one time for any one reserve. Final selections will be made by the Chief of the Estuarine Reserves Division based on the scores submitted by the reviewers during the evaluation process. The applicant(s) with the highest scores will receive fellowships commensurate with the number of openings at the host reserve. Funding recommendations should be announced by February 2003. Unsuccessful applications will be retained at ERD.

C. Reporting Requirements

Semi-annual performance reports shall be submitted 30 days after the completion of every six month period after the project start date and a final performance report shall be submitted 90 days after the project period ending date. Applicants selected for funding will be provided with the guidelines for these reports upon receiving the award.

VI. Fellowship Awards

Awards are normally made to the fellow's graduate institution through the use of a grant. Awards can be made to institutions of higher education, other nonprofits, commercial organizations, international organizations, state, local and Indian tribal governments. Applicants whose projects are recommended for funding will be required to complete all necessary federal financial assistance forms (SF-424, SF-424A, SF-424B, and CD-511), which will be provided by ERD with the letter of fellowship notification. The Estuarine Reserves Division recommends that all applicants work with their graduate institution during the development of their budget to ensure concurrence on budgetary issues (e.g. the use of salary and fringe benefits as match).

The Estuarine Reserves Division, Office of Ocean and Coastal Resource Management, reserves the right to immediately halt activity under the award if it becomes obvious that award activities are not fulfilling the mission of the National Estuarine Research Reserve System. Non-compliance with a federally approved project may result in immediate halting of the award. For applicants awarded more than one year of funding, ERD will review and approve each stage of work annually before the next begins to assure that studies will produce viable information on which to form valid coastal management decisions.

VII. Other Requirements

The Department of Commerce Pre-Award Notification Requirements for Grants and Cooperative Agreements contained in the Federal Register notice of October 1, 2001 (66 FR 49917), are applicable to this solicitation. However, please note that the Department of Commerce will not implement the requirements of Executive Order 13202 (66 FR 49921), pursuant to guidance issued by the Office of Management and Budget, in light of a court opinion which found that the Executive Order was not legally authorized. See Building and Construction Trades Department v. Allbaugh, 172 F. Supp. 2d 138 (D.D.C. 2001). This decision is currently on appeal. When the case has been finally resolved, the Department will provide further information on implementation of Executive Order 13202.

Applications under this program are subject to Executive Order 12372, “Intergovernmental Review of Federal Programs.”

VIII. Classification

This notice has been determined to be “not significant” for purposes of E.O. 12866. This action is categorically excluded from the requirement to prepare an environmental assessment by NOAA Administrative Order 216-6. This notice does not contain policies with federalism implications as that term is defined in Executive Order 13132.

Because notice and comment are not required under 5 U.S.C. 553(a)(2), or any other law, for notices relating to public property, loans, grants, benefits or contracts, a Regulatory Flexibility Analysis, 5 U.S.C. 601 et seq., is not required and has not been prepared for this notice.

This notice involves a collection of information subject to the requirements of the Paperwork Reduction Act. The requirements have been approved by the Office of Management and Budget (OMB) under control numbers 0348-0043, 0348-0044, 0348-0040 and 0348-0046.

Notwithstanding any other provision of law, no person is required to respond to, nor shall any person be subject to a penalty for failure to comply with a collection of information, subject to the requirements of the Paperwork Reduction Act, unless that collection displays a currently valid OMB control number.

(Federal Domestic Assistance Catalog Number 11.420 Coastal Zone Management National Estuarine Research Reserves)

Dated: August 20, 2002.
Jamison S. Hawkins,
Deputy Assistant Administrator, Ocean Services and Coastal Zone Management, National Oceanic and Atmospheric Administration.

Appendix I. NERRS On-Site Staff

Alabama

Mr. L.G. Adams, Manager and Dr. Scott Phipps, Research Coordinator, Weeks Bay National Estuarine Research Reserve, 11300 U.S. Highway 98, Fairhope, AL 36532, (251) 928-9792, lg.adams@noaa.gov, scott.phipps@noaa.gov

Alaska

Mr. Glenn Seaman, Manager and Dr. Carl Schoch, Research Coordinator, Kachemak Bay National Estuarine Research Reserve, Department of Fish and Game, 2181 Kachemak Drive, Homer, AK 99603, (907) 235-6377, glenn_seaman@fishgame.state.ak.us, carl_schoch@fishgame.state.ak.us

California

Ms. Becky Christensen, Manager and Dr. Kerstin Wasson, Research Coordinator, Elkhorn Slough National Estuarine Research Reserve, 1700 Elkhorn Road, Watsonville, CA 95076, (831) 728-2822, research@elkhornslough.org

Mr. Mike Wells, Manager and Dr. Jeffrey Crooks, Research Coordinator, Tijuana River National Estuarine Research Reserve, 301 Caspian Way, Imperial Beach, CA 92032, (619) 575-3613, mwells@parks.ca.gov, jacrooks@yahoo.com

Dr. Todd Hopkins, San Francisco Bay National Estuarine Research Reserve, Romberg Tiburon Center, 3152 Paradise Drive, Tiburon, CA 94920, (415) 338-6063, thopkins@sfsu.edu

Delaware

Mr. Mark Del Vecchio, Manager, Ms. Katie Dulin, Acting Manager, and Dr. Bob Scarborough, Research Coordinator, Delaware National Estuarine Research Reserve, Department of Natural Resources and Environmental Control, 818 Kitts Hummock Road, Dover, DE 19901, (302) 739-3436, mdelvecchio@state.de.us, kdulin@state.de.us, bscarboroug@state.de.us

Florida

Mr. Woodard Miley II, Manager and Mr. Lee Edmiston, Research Coordinator, Apalachicola River National Estuarine Research Reserve, Florida Department of Environmental Protection, 350 Carroll Street, Eastpoint, FL 32320, (850) 670-4783, woodard.miley@dep.state.fl.us, lee.edmiston@dep.state.fl.us

Mr. Kenneth Berk, Manager and Dr. Rick Gleeson, Research Coordinator, Guana Tolomato Matanzas National Estuarine Research Reserve, Florida Department of Environmental Protection, 9741 Ocean Shore Boulevard, Marineland, FL 32080, (904) 461-4054, kenberk@bellsouth.net, rglee@whitney.ufl.edu

Mr. Gary Lytton, Manager and Dr. Michael Shirley, Research Coordinator, Rookery Bay National Estuarine Research Reserve, Department of Environmental Protection, 300 Tower Road, Naples, FL 34113-8059, (239) 417-6310, gary.lytton@dep.state.fl.us, michael.shirley@dep.state.fl.us

Georgia

Mr. Buddy Sullivan, Manager and Mr. Dorset Hurley, Research Coordinator, Sapelo Island National Estuarine Research Reserve, PO Box 15, Sapelo Island, GA 31327, (912) 485-2251, buddy.sullivan@noaa.gov, dhurley@darientel.net

Maine

Mr. Paul Dest, Manager and Dr. Michele Dionne, Research Coordinator, Wells National Estuarine Research Reserve 342 Laudholm Farm Road, Wells, ME 04090, (207) 646-1555, dest@wellsnerrcec.lib.me.us, michele.dionne@maine.edu

Maryland

Ms. Carol Towle, Manager and Ms. Julie Bortz, Research Coordinator, Chesapeake Bay National Estuarine Research Reserve, MD, Department of Natural Resources, Tawes State Office Building, E-2, 580 Taylor Avenue, Annapolis, MD 21401, (410) 260-8713, ctowle@dnr.state.md.us, jbortz@dnr.state.md.us

Massachusetts

Ms. Christine Gault, Manager and Dr. Chris Weidman, Research Coordinator, Waquoit Bay National Estuarine Research Reserve, Department of Environmental Management, PO Box 3092, Waquoit, MA 02536, (508) 457-0495, christine.gault@state.ma.us, chris.weidman@state.ma.us

Mississippi

Mr. Jan Boyd, Acting Manager and Dr. Mark Woodrey, Grand Bay National Estuarine Research Reserve, Department of Marine Resources 6005 Bayou Heron Road, Moss Point, MS 39562, (228) 475-7047, jan.boyd@dmr.state.ms.us, mark.woodrey@dmr.state.ms.us

New Hampshire

Mr. Peter Wellenberger, Manager and Mr. Brian Smith, Research Coordinator, Great Bay National Estuarine Research Reserve, New Hampshire Department of Fish and Game 225 Main Street, Durham, NH 03824, (603) 868-1095, pwellenberger@starband.net, bmsmith@starband.net

New Jersey

Mr. Michael De Luca, Manager and Dr. Michael Kennish, Research Coordinator, Mullica River National Estuarine Research Reserve, Institute of Marine and Coastal Sciences, Rutgers University, 71 Dudley Road, New Brunswick, NJ 08903, (732) 932-6555, deluca@imcs.rutgers.edu, kennish@imcs.rutgers.edu

New York

Ms. Elizabeth Blair, Manager and Mr. Chuck Nieder, Research Coordinator, Hudson River National Estuarine Research Reserve, New York State Department of Environmental Conservation, c/o Bard College Field Station, Annandale-on-Hudson, NY 12504, (845) 758-7010, bablair@gw.dec.state.ny.us, wcnieder@gw.dec.state.ny.us

North Carolina

Dr. John Taggart, Manager and Dr. Steve Ross, Research Coordinator, North Carolina National Estuarine Research Reserve, 5001 Masonboro Loop Road, 1 Marvin Moss Lane, Wilmington, NC 28409, (910) 395-3905, taggartj@uncwil.edu, rosss@uncwil.edu

Ohio

Mr. Eugene Wright, Manager and Dr. David Klarer, Research Coordinator, Old Woman Creek National Estuarine Research Reserve, 2514 Cleveland Road, East, Huron, OH 44839, (419) 433-4601, gene.wright@noaa.gov, david.klarer@noaa.gov

Oregon

Mr. Michael Graybill, Manager and Dr. Steve Rumrill, Research Coordinator, South Slough National Estuarine Research Reserve, PO Box 5417, Charleston, OR 97420, (541) 888-5558, ssnerr@harborside.com

Puerto Rico

Ms. Carmen Gonzalez, Manager and Dr. Pedro Robles, Research Coordinator, Jobos Bay National Estuarine Research Reserve, Department of Natural and Environmental Resources, Call Box B, Aguirre, PR 00704, (787) 853-4617, carmen.gonzalez@noaa.gov, pedro.robles@coqui.net

Rhode Island

Mr. Roger Greene, Manager and Dr. Kenny Raposa, Research Coordinator, Narragansett Bay National Estuarine Research Reserve, Department of Environmental Management, Box 151, Prudence Island, RI 02872, (401) 683-6780, roger.greene@noaa.gov, kenny@gsosun1.gso.uri.edu

South Carolina

Mr. Michael D. McKenzie, Manager and Dr. Elizabeth Wenner, Research Coordinator, Ashepoo-Combahee-Edisto (ACE) Basin, South Carolina Department of Natural Resources, PO Box 12559, Charleston, SC 29412, (843) 762-5062, mckenziem@mrd.dnr.state.sc.us, wennere@mrd.dnr.state.sc.us

Ms. Wendy Allen, Manager, North Inlet-Winyah Bay National Estuarine Research Reserve, Baruch Marine Field Laboratory, PO Box 1630, Georgetown, SC 29442, (803) 546-3623, wendy@belle.baruch.sc.edu

Virginia

Dr. William Reay, Manager and Dr. Ken Moore, Research Coordinator, Chesapeake Bay National Estuarine Research Reserve, VA, Virginia Institute of Marine Science, College of William and Mary, PO Box 1347, Gloucester Point, VA 23062, (804) 684-7135, wreay@vims.edu, moore@vims.edu

Washington

Mr. Terry Stevens, Manager and Dr. Douglas Bulthuis, Research Coordinator, Padilla Bay National Estuarine Research Reserve, 10441 Bay View-Edison Road, Mt. Vernon, WA 98273-9668, (360) 428-1558, tstevens@padillabay.gov, bulthuis@padillabay.gov

[FR Doc. 02-21622 Filed 8-23-02; 8:45 am]

BILLING CODE 3510-08-P